DEPARTMENT OF TRANSPORTATION

Federal Aviation Administration

Intent To Prepare a Joint Environmental Impact Statement/Environmental Impact Report (EIS/EIR) and Hold a Scoping Meeting for Santa Barbara Municipal Airport, Santa Barbara, CA

AGENCY: Federal Aviation Administration, DOT.

ACTION: Notice to hold a public scoping meeting.

SUMMARY: The Federal Aviation Administration (FAA) is issuing this notice to advise the public that a joint EIS/EIR will be prepared for development recommended by the Master Plan Update for Santa Barbara Municipal Airport, Santa Barbara, California. This is the second notice that the FAA has published on this document; the first notice was published on August 11, 1993 and a public scoping meeting was held on September 17, 1993. Portions of the baseline information and proposed project scope have since been updated, and the planning horizon has been extended, therefore, to ensure that all significant issues related to the proposed action are identified, another public scoping meeting is being scheduled.

FOR FURTHER INFORMATION CONTACT: Peter Ciesla, Airport Planner, AWP-613.2, Federal Aviation Administration, Airports Division, Western-Pacific Region, P.O. Box 92007, World Way Postal Center, Los Angeles, California 90009-2007, Telephone: 310/725-3628. Comments on the scope of the EIS should be submitted to the address above and must be received no later than Friday, December 15, 2000.

SUPPLEMENTARY INFORMATION: The FAA in cooperation with the city of Santa Barbara, California, will prepare a joint EIS/EIR for further development recommendation at Santa Barbara Municipal Airport. The need to prepare an EIS is based on the procedures described in FAA Order 5050.4A, Airport Environmental Handbook. The city of Santa Barbara is preparing an EIR to meet the state of California environmental review requirements.

Preparation of the joint EIS/EIR for the proposed Santa Barbara Municipal Airport improvements were initially started in August 1993, with the first Notice of Intent being published for development recommended in the Draft Master Plan Update. At that time, the proposed improvements included the extension of Runway 7/25 to the west by 800 feet, construction of runway safety areas at each end of Runway 7/25 in order to meet FAA standards, extension and widening of Runway 15R/33L, and for the Terminal Building expansion and terminal area improvements. The runway safety areas are required under FAA standards in order to reduce the risk of damage and passenger injury, if an aircraft leaves the runway pavement. The existing runway safety area for the east end Runway 7/25 is 500 feet wide and 215 feet long, and the west end is 500 feet wide and 320 feet long. The current required dimensions for the runway safety area is an area that is 500 feet wide and 1,000 feet beyond the runway end. Since the original Notice of Intent, a number of studies were completed, which concluded that the existing 6,052 foot operational length of Runway 7/25 is satisfactory for current and foreseeable future airline flights. In order to achieve the runway safety areas, Runway 7/25 would need to be relocated approximately 800 feet to the west. These studies formed the basis of the City's current Aviation Facilities Plan, which includes the required runway safety areas and retains the current runway length for aircraft operations.

The proposed action is the adoption of the Santa Barbara Municipal Airport, Aviation Facilities Plan (AFP). The AFP recommends expanding the existing runway safety areas on both ends of Runway 7/25 in order to meet current FAA standards, expansion of the airline terminal and parking facility, construction of a new Taxiway M and construction of general aviation facilities.

The federal actions being proposed are FAA approval of the Airport Layout Plan and approval of future processing of an application for federal funding assistance, for the proposed improvements. The airport is located in the vicinity of the Goleta Slough and there are potential impacts on wetlands and biotic communities from the disruption of stream flows and tidal circulation to the area around the airport. The land adjacent to the airport contains non-compatible land uses in terms of aircraft noise, and the proposed development is likely to be controversial.

The city of Santa Barbara, pursuant to the California Environmental Quality Act of 1970 (CEQA) is preparing an Environmental Impact Report (EIR) for the proposed development. In an effort to eliminate unnecessary duplication and reduce delay, the document to be prepared, will be a joint EIS/EIR in accordance with the President's Council on Environmental Quality Regulations described in 40 Code of Federal Regulations Sections 1500.5 and 1506.2.

The Joint Lead Agencies for the preparation of the EIS/EIR will be the Federal Aviation Administration and the city of Santa Barbara, California. Due to proximity of the Goleta Slough and other water courses on the airport, the U.S. Army Corps of Engineers is a cooperating agency in the preparation of the document.

The development recommended in the AFP and which will be evaluated in the EIS/EIR is described below:

West Creek Realignment Alternative

• Construction of a new runway safety area on each end of Runway 7/25, in order to meet FAA standards. The runway safety area on the east end of the runway would use an 800 foot portion of the existing runway.

• Construction of an 800 foot western extension to Runway 7/25 to maintain the existing 6,052 foot, Runway 7/25 length, and extension of the associated taxiway.

• Terminal Building expansion, and expansion of the automobile parking area.

• Construction of a new Taxiway M.

• Construction of additional T-hangars and a new air cargo facility.

• Realignment of Tecolotito Creek, 2,000 feet to west, to be rerouted around the new runway safety area and relocation of Carneros Creek.

• Acquisition of Runway Protection Zones on each end of Runway 7/25.

• Relocation of navigational aids at the airport.

• Revisions to the standard instrument departure and arrival procedures at the airport.

West Creek Culvert Alternative

• Same as Alternative 1, except that a culvert would be built for Tecolotito Creek to allow it to flow under the runway, taxiway and safety area.

No Action Alternative

• No construction activities at the airport would occur under this alternative.

Comments received during the first scoping meeting raised concerns about the potential emissions from air pollutants, impacts on biological resources, noise impacts to surrounding residential areas, potential disruption of archaeological or historic sites, incompatibility with existing land uses, traffic impacts on existing streets, and possible contamination of Goleta Slough or alterations of it's flow patterns.

Comments and suggestions to this second Notice of Intent are invited from Federal, State and local agencies, and other interested parties to ensure that the full range of issues related to these proposed projects are addressed and all significant issues are identified. Written comments and suggestions concerning the scope of the EIS/EIR may be mailed to the FAA informational contact listed above and must be received no later than Friday, December 15, 2000.

Public Scoping Meeting

The FAA will hold a public scoping meeting to solicit input from the public with respect to any environmental impacts associated with the proposed project. The public scoping meeting will be held at 1 p.m. on December 7, 2000, at the City Council Chambers, Santa Barbara City Hall, 735 Anacapa Street, Santa Barbara, CA 93101.

Issued in Hawthorne, California on Friday, October 20, 2000.
Mia Paredes Ratcliff,
Acting Manager, Airports Division, Western-Pacific Region, AWP-600.

[FR Doc. 00-28189 Filed 11-1-00; 8:45 am]

BILLING CODE 4910-13-M